DEPARTMENT OF JUSTICE

[OMB Number 1117-0058]

Agency Information Collection Activities; Proposed eCollection eComments Requested; Extension of a Previously Approved Collection; Exempt Chemical Preparations Under the Controlled Substance Act

AGENCY: Drug Enforcement Administration, Department of Justice.

ACTION: 60-Day notice.

SUMMARY: The Drug Enforcement Administration (DEA), Department of Justice (DOJ), will be submitting the following information collection request to the Office of Management and Budget (OMB) for review and approval in accordance with the Paperwork Reduction Act of 1995.

DATES: Comments are encouraged and will be accepted for 60 days until October 22, 2024.

FOR FURTHER INFORMATION CONTACT: If you have additional comments especially on the estimated public burden or associated response time, suggestions, or need a copy of the proposed information collection instrument with instructions or additional information, please contact Scott A Brinks, Regulatory Drafting and Policy Support Section, Drug Enforcement Administration; Mailing Address: 8701 Morrissette Drive, Springfield, Virginia 22152; Telephone: (571) 362-3261; Email: PRA@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Pursuant to 21 U.S.C. 811(g)(3)(B), DEA (by delegation of authority from the Attorney General) may, by regulation, exempt from specific provisions of the Controlled Substances Act (CSA) any compound, mixture, or preparation containing any controlled substance, which is not for administration to a human being or animal, and which is packaged in a certain manner, so that as packaged it does not present any significant potential for abuse. In accordance with 21 CFR 1308.23(f), the Administrator (or the Deputy Assistant Administrator), at any time, may revoke or modify any exemption granted pursuant to 21 CFR 1308.23; modify or revoke the criteria by which exemptions are granted; and modify the scope of exemptions.

Overview of This Information Collection

1. Type of Information Collection: Extension of a previously approved collection.

2. The Title of the Form/Collection: Exempt Chemical Preparations under the Controlled Substance Act.

3. The agency form number, if any, and the applicable component of the Department sponsoring the collection: No form number is associated with this collection. The applicable component within the Department of Justice is the Drug Enforcement Administration, Diversion Control Division.

4. Affected public who will be asked or required to respond, as well as the obligation to respond: Affected Public: Business or other for-profit.

5. An estimate of the total number of respondents and the amount of time estimated for an average respondent to respond: The DEA estimates that 131 registrants participate in this information collection. The time per response is 1 hr for Exempt Chemical Preparations under the Controlled Substance Act.

6. An estimate of the total annual burden (in hours) associated with the collection: DEA estimates that this collection takes 2,093 annual burden hours.

7. An estimate of the total annual cost burden associated with the collection, if applicable: $3,558.

Total Burden Hours
Activity | Number of respondents | Total annual responses | Time per response (hours) | Total annual burden (hours)
Exempt Chemical Preparations | 131 | 2,093 | 1 | 2,093
Unduplicated Totals | 131 | 2,093 | 1 | 2,093

If additional information is required contact: Darwin Arceo, Department Clearance Officer, United States Department of Justice, Justice Management Division, Policy and Planning Staff, Two Constitution Square, 145 N Street NE, 4W-218, Washington, DC 20530.

Dated: August 20, 2024.
Darwin Arceo,
Department Clearance Officer for PRA, U.S. Department of Justice.

[FR Doc. 2024-18998 Filed 8-22-24; 8:45 am]

BILLING CODE 4410-09-P